DEPARTMENT OF LABOR

Agency Information Collection Activities; Submission for OMB Review; Comment Request, Job Corps Evidence Building Portfolio, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Job Corps Evidence Building Portfolio. A copy of the proposed Information Collection Request (ICR) can be obtained by contacting the office listed below in the addressee section of this notice.

DATES: Written comments must be submitted to the office listed in the addressee section below on or before March 9, 2021.

ADDRESSES: You may submit comments by either one of the following methods:

Email: ChiefEvaluationOffice@dol.gov; Mail or Courier: Jessica Lohmann, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Jessica Lohmann by email at ChiefEvaluationOffice@dol.gov or by phone at (202)693-5087.

SUPPLEMENTARY INFORMATION:

I. Background

The Chief Evaluation Office (CEO) of the U.S. Department of Labor (DOL) intends to design and conduct an evaluation to assess the implementation and outcomes of three Job Corps demonstration pilots. The goals of the implementation and outcomes evaluation are to understand who the pilots enroll, what services they provide, how these services are implemented, and how the pilots compare with traditional Job Corps. The evaluation will also assess outcomes of participants in the demonstration pilots, as well as identify any best practices. The project also includes impact feasibility assessments of each of the demonstration pilots to assess the potential for conducting an impact evaluation of the pilot's effectiveness or similar future pilots. This Federal Register Notice provides the opportunity to comment on proposed data collection instruments that will be used in the implementation and impact feasibility evaluation: Semi-structured program staff and stakeholder interview topic guide, participant interview or focus group topic guide, program survey of Job Corps centers and demonstration pilot grantees, and impact feasibility topic guide.

1. Semi-structured interviews with program staff and staff from selected community partner organizations topic guide. Interviews will be conducted over the phone or video or during in-person site visits in 2022. Each of the pilot demonstration projects draw on a range of staff and partners that deliver services; thus, interviews may include pilot staff, partner staff, employers, and training and education providers. We estimate that approximately 175 interviews will be conducted across all pilots. We will also observe program activities, either in person or virtually via phone or video, to help us describe key program components and participant engagement. The observations will not involve additional burden.

2. Participant interviews or focus group topic guide. We will also interview demonstration pilot participants through one-on-one interviews or focus groups. Focus groups or interviews will be conducted with approximately 25 interviewees to 175 interviewees across all pilots. These interviews or focus groups may be conducted in person, online, or over the phone.

3. Program survey of Job Corps centers and demonstration pilot grantees. The project will field a program survey to each of the Job Corps centers and demonstration pilots to gather information about program implementation, service offerings, and staffing. The survey will be fielded to 131 Job Corps centers, and up to 30 pilot demonstration sites in spring 2022.

4. Impact feasibility assessment interviews with demonstration pilot staff topic guide. In addition to the implementation and outcome study, the evaluation will gather information from select grantee staff about topics related to feasibility of conducting an impact study of the demonstration pilot. The team will conduct phone, video or in person interviews with grantee staff who are involved in management, enrollment, and program services in fall 2021/winter 2022. The project will conduct 25 interviews across the three pilots.

II. Desired Focus of Comments

Currently, the Department of Labor is soliciting comments concerning the above data collection for the Job Corps Evidence Building Project. DOL is particularly interested in comments that do the following:

• Evaluate whether the proposed collection of information is necessary for the proper performance functions of the agency, including whether the information will have practical utility;

• evaluate the accuracy of the agency's burden estimate of the proposed information collection, including the validity of the methodology and assumptions;

• enhance the quality, utility, and clarity of the information to be collected; and

• minimize the burden of the collection of information on those who are to respond, including through the use of appropriate automated, electronic, mechanical, or other technological collection techniques or other forms of information technology—for example, permitting electronic submissions of responses.

III. Current Actions

At this time, the Department of Labor is requesting clearance for the semi-structured program and partner staff topic guide, participant interview and focus group topic guide, grantee program survey, and impact feasibility study topic guide.

Type of Review: New information collection request.

OMB Control Number: 1290-0NEW.

Affected Public: Job Corp centers and demonstration pilots, partners and participants.

Comments submitted in response to this request will be summarized and-or included in the request for Office of Management and Budget approval of the information collection request; they will also become a matter of public record.

Estimated Annual Burden Hours
Type of Instrument (form-activity) | Number of respondents | Number of responses per respondent | Total number of responses | Average burden time per response (hours) | Estimated burden hours
Semi-structured interview with staff, partners, and stakeholders topic guide | 175 | 1 | 175 | 1.5 | 262.5
Participant interview or focus group protocol | 175 | 1 | 175 | 1.5 | 262.5
Program survey of JC Centers and pilots | 161 | 1 | 161 | 2 | 322
Impact feasibility topic guide | 30 | 1 | 30 | 1.5 | 45
Total | 541 |  | 541 |  | 892

Christina Yancey,
Chief Evaluation Officer, U.S. Department of Labor.

[FR Doc. 2021-00078 Filed 1-7-21; 8:45 am]

BILLING CODE 4510-HX-P